EXPORT-IMPORT BANK

Notice of Open Special Meeting of the Sub-Saharan Africa Advisory Committee (SAAC) of the Export-Import Bank of the United States (Export-Import Bank)

SUMMARY: The Sub-Saharan Africa Advisory Committee was established by Public Law 105-121, November 26, 1997, to advise the Board of Directors on the development and implementation of policies and programs designed to support the expansion of the Bank's financial commitments in Sub-Saharan Africa under the loan, guarantee, and insurance programs of the Bank. Further, the committee shall make recommendations on how the Bank can facilitate greater support by U.S. commercial banks for trade with Sub-Saharan Africa.

DATES: Time and Place: Wednesday, April 30, 2014 at 11:00 a.m. to 3:00 p.m. The meeting will be held at the Export-Import Bank in Room 326, 811 Vermont Avenue NW., Washington, DC 20571.

Agenda: Agenda items include a briefing for new 2014 Sub-Saharan Africa Advisory Committee members regarding bank programs in Africa and an ethics overview.

Public Participation: The meeting will be open to public participation, and the last 10 minutes will be set aside for oral questions or comments. Members of the public may also file written statement(s) before or after the meeting. If any person wishes auxiliary aids (such as a sign language interpreter) or other special accommodations, please contact, prior to April 28, 2014, Richard Thelen, 811 Vermont Avenue NW., Washington, DC 20571, Email: richard.thelen@exim.gov or TDD (202) 565-3377.

FOR FURTHER INFORMATION CONTACT: For further information, contact Richard Thelen, 811 Vermont Avenue NW., Washington, DC 20571, via email at: richard.thelen@exim.gov.

Cristopolis A. Dieguez,
Management and Program Analyst, Office of the Chief Financial Officer.

[FR Doc. 2014-08873 Filed 4-17-14; 8:45 am]

BILLING CODE 6690-01-P